DEPARTMENT OF THE INTERIOR

Bureau of Ocean Energy Management

[Docket No. BOEM-2013-0083]

Notice of Determination of No Competitive Interest for the WindFloat Pacific Project Offshore Oregon; MMAA104000

AGENCY: Bureau of Ocean Energy Management (BOEM), Interior.

ACTION: Notice.

SUMMARY: This notice provides BOEM's determination that there is no competitive interest in the area requested by Principle Power, Incorporated (PPI) to acquire an Outer Continental Shelf (OCS) commercial wind lease as described in the Potential Commercial Leasing for Wind Power on the Outer Continental Shelf (OCS) Offshore Oregon, Request for Interest (RFI) that BOEM published on September 30, 2013 (78 FR 59968). The RFI described the WindFloat Pacific Project proposal submitted to BOEM by PPI to acquire a commercial wind lease on the OCS offshore Oregon, and provided an opportunity for the public to submit comments about the proposal.

DATES: Effective February 6, 2014.

FOR FURTHER INFORMATION CONTACT: Ms. Jean Thurston, Renewable Energy Program Specialist, BOEM, Pacific Region Office of Strategic Resources, 770 Paseo Camarillo, Second Floor, Camarillo, California 93010, Phone: (805) 384-7585.

SUPPLEMENTARY INFORMATION:

Authority

This Determination of No Competitive Interest (DNCI) is published pursuant to subsection 8(p)(3) of the OCS Lands Act (43 U.S.C. 1337(p)(3)), and the implementing regulations at 30 CFR Part 585. Subsection 8(p)(3) of the OCS Lands Act requires that OCS renewable energy leases, easements, and rights-of-way be issued “on a competitive basis unless the Secretary [of the Interior] determines after public notice of a proposed lease, easement, or right-of-way (ROW) that there is no competitive interest.” The Secretary delegated the authority to make such determinations to BOEM.

Determination and Next Steps

This DNCI provides notice to the public that BOEM has determined there is no competitive interest in the proposed lease area, as no indications of competitive interest were submitted in response to the RFI.

In the RFI, BOEM also solicited public input regarding the area described in the notice, the potential environmental consequences of wind energy development in the area, and multiple uses of the area. In response to the RFI, BOEM received public comment submissions from 18 entities. BOEM will use the comments it received to inform its subsequent decisions. After publication of this DNCI, BOEM will proceed with the noncompetitive lease issuance process outlined at 30 CFR 585.231.

Map of the Area

A map of the area proposed for a commercial lease can be found at the following Web site: http://www.boem.gov/Oregon/.

Dated: January 17, 2014.
Tommy P. Beaudreau,
Director, Bureau of Ocean Energy Management.

[FR Doc. 2014-02549 Filed 2-5-14; 8:45 am]

BILLING CODE 4310-MR-P